DEPARTMENT OF ENERGY

Notice of Request for Information (RFI) on Supporting Energy Savings Performance Contracting in the Public Sector

AGENCY: Office of Energy Efficiency and Renewable Energy, Department of Energy (DOE).

ACTION: Request for Information (RFI).

SUMMARY: The U.S. Department of Energy (DOE) invites public comment on its Request for Information (RFI) number 21EE000682 regarding supporting Energy Savings Performance Contracting (ESPC) in the public sector. DOE's Office of Energy Efficiency and Renewable Energy (EERE), Weatherization and Intergovernmental Programs Office (WIP), seeks information from the public and nonprofit organizations that have the expertise to support energy savings performance contracting (ESPC) in the municipalities, universities, schools, and hospitals (MUSH) market. The desired outcome of this request is to enhance how MUSH market stakeholders can use ESPC to maximize energy and cost savings, local economies, and workforce development.

DATES: Responses to the RFI must be received no later than 5:00 p.m. EST on August 25, 2021.

ADDRESSES: Interested parties are to submit comments electronically to ESPC_Support_RFI_DOEWIP@ee.doe.gov. Include “Supporting Energy Savings Performance Contracting in the Public Sector” in the subject of the title. Only electronic responses will be accepted. The complete RFI document is located at https://eere-exchange.energy.gov/.

FOR FURTHER INFORMATION CONTACT: Questions may be addressed to Alice Dasek at alice.dasek@ee.doe.gov or 202-308-0894. Further instruction can be found in the RFI document posted on EERE Exchange.

SUPPLEMENTARY INFORMATION: The purpose of this RFI is to solicit feedback from the public and nonprofits that have deep expertise in ESPC in the MUSH market, with solutions for the technical, contractual, and financial barriers to achieving verified savings from ESPC. EERE is specifically interested in such organizations' capacity, ability, experience, and best practices for working with state energy offices and other state and local government ESPC practitioners to design and implement ESPC in their respective states; documenting MUSH-market ESPC state program needs and current projects; facilitating MUSH market peer exchange opportunities; and providing technical assistance to build state ESPC frameworks. Respondents may describe documented expertise in the field across the country, experience leading or executing ESPC projects in the MUSH market (including all relevant technical, financial, and contractual expertise), and established network connections with ESPC practitioners in the MUSH market. This is solely a request for information and not a Funding Opportunity Announcement (FOA). EERE is not accepting applications.

Confidential Business Information: According to 10 CFR 1004.11, any person submitting information that he or she believes to be confidential and exempt by law from public disclosure should submit via email two well-marked copies: One copy of the document marked “confidential” including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

Signing Authority: This document of the Department of Energy was signed on June 21, 2021, by Kelly Speakes-Backman, Principal Deputy Assistant Secretary and Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on June 21, 2021.
Treena V. Garrett,
Federal Register Liaison Officer, U.S. Department of Energy.

[FR Doc. 2021-15836 Filed 7-23-21; 8:45 am]

BILLING CODE 6450-01-P